DEPARTMENT OF COMMERCE

International Trade Administration

[C-489-845]

Certain Aluminum Foil From the Republic of Türkiye: Final Results of Countervailing Duty Administrative Review; 2022

AGENCY: Enforcement and Compliance, International Trade Administration, Department of Commerce.

SUMMARY: The U.S. Department of Commerce (Commerce) determines countervailable subsidies were provided to producers and exporters of certain aluminum foil (aluminum foil) from the Republic of Türkiye (Türkiye) during the period of review (POR) January 1, 2022, through December 31, 2022.

DATES: Applicable July 14, 2025.

FOR FURTHER INFORMATION CONTACT: Ian Riggs or Caroline Carroll, AD/CVD Operations, Office IX, Enforcement and Compliance, International Trade Administration, U.S. Department of Commerce, 1401 Constitution Avenue NW, Washington, DC 20230; telephone: (202) 482-3810 or (202) 482-4948, respectively.

SUPPLEMENTARY INFORMATION

Background

On December 13, 2024, Commerce published the Preliminary Results of this administrative review and invited interested parties to comment.¹ On December 9, 2024, Commerce tolled certain deadlines in this review by 90 days.² The deadline for the final results is now July 8, 2025. For a full description of the events that occurred since the Preliminary Results, see the Issues and Decision Memorandum.³

¹ See Certain Aluminum Foil from the Republic of Türkiye: Preliminary Results and Partial Rescission of Countervailing Duty Administrative Review; 2022, 89 FR 100959 (December 13, 2024) (Preliminary Results), and accompanying Preliminary Decision Memorandum.

² See Memorandum, “Tolling of Deadlines for Antidumping and Countervailing Duty Proceedings,” dated December 9, 2024.

³ See Memorandum, “Issues and Decision Memorandum for the Final Results of the Countervailing Duty Administrative Review of Certain Aluminum Foil from the Republic of Türkiye; 2022,” dated concurrently with, and hereby adopted by, this notice (Issues and Decision Memorandum).

Scope of the Order ⁴

⁴ See Certain Aluminum Foil from the Sultanate of Oman and the Republic of Turkey: Countervailing Duty Orders, 86 FR 62782 (November 12, 2021) (Order).

The merchandise covered by this Order is aluminum foil from Türkiye. For a complete description of the scope of this Order, see the Preliminary Decision Memorandum.

Analysis of Comments Received

All issues raised in interested parties' case briefs are addressed in the Issues and Decision Memorandum. A list of the issues addressed in the Issues and Decision Memorandum is attached as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Methodology

Commerce conducted this review in accordance with section 751(a)(1)(A) of the Tariff Act of 1930, as amended (the Act). For each of the subsidy programs found countervailable, we find that there is a subsidy, i.e., a government-provided financial contribution that gives rise to a benefit to the recipient, and that the subsidy is specific.⁵ For a full description of the methodology underlying all of Commerce's conclusions, see the Issues and Decision Memorandum.

⁵ See sections 771(5)(B) and (D) of the Act regarding financial contribution; section 771(5)(E) of the Act regarding benefit; and section 771(5A) of the Act regarding specificity.

Changes Since the Preliminary Results

Based on comments received from interested parties, we made certain changes to the subsidy rate calculations for Assan Aluminyum Sanayi ve Ticaret A.S. (Assan) and Panda Aluminyum A.S. (Panda) from the Preliminary Results.⁶

⁶ For a full description of changes, see Issues and Decision Memorandum.

Final Results of Review

We determine that, for the period January 1, 2022, through December 31, 2022, the following total net countervailable subsidy rates exist:

Producer/exporter | Subsidy rate (percent ad valorem)
Assan Aluminyum Sanayi ve Ticaret A.S.⁷ | 1.10
Panda Aluminyum A.S.⁸ | 1.46

Disclosure

Commerce intends to disclose the calculations performed for these preliminary results to interested parties within five days after public announcement, or if there is no public announcement, within five days of the date of publication of this notice in the Federal Register, in accordance with 19 CFR 351.224(b).

⁷ As discussed in the Issues and Decision Memorandum, Commerce has found the following companies to be cross-owned with Assan: Ispak Esnek Ambalaj Sanayi A.S.; and Kibar Holding A.S. We note that Assan has an affiliated trading company through which it exported certain subject merchandise, Kibar Dis Ticaret A.S. (Kibar Dis). Therefore, because Kibar Dis' subsidies are included as part of Assan's total subsidy rate, we have not assigned a subsidy rate to Kibar Dis. Entries of subject merchandise exported by Kibar Dis will receive the rate of the producer listed on the U.S. Customs and Border Protection (CBP) entry form.

⁸ We note that Panda has an affiliated trading company through which it exported certain subject merchandise, Seherli Danışmanlık A.Ş. (Seherli). Seherli was not selected as a mandatory respondent but was examined in the context of Panda. Therefore, because Seherli's subsidies are included as part of Panda's total subsidy rate, we have not assigned a subsidy rate to Seherli. Entries of subject merchandise exported by Seherli will receive the rate of the producer listed on the CBP entry form.

Assessment Rates

Pursuant to section 751(a)(2)(C) of the Act and 19 CFR 351.212(b)(2), Commerce has determined, and CBP shall assess, countervailing duties on all appropriate entries of subject merchandise in accordance with the final results of this review, for the above-listed companies at the applicable ad valorem assessment rates listed. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Rates

In accordance with section 751(a)(1) of the Act, Commerce intends to instruct CBP to collect cash deposits of estimated countervailing duties in the amounts shown for the companies listed above for shipments of the subject merchandise entered, or withdrawn from warehouse, for consumption on or after the date of publication of the final results of this administrative review. For all non-reviewed firms, we will instruct CBP to continue to collect cash deposits of estimated countervailing duties at the most recent company-specific or all-others rate (i.e., 2.60 percent) applicable to the company, as appropriate. These cash deposits, effective upon the publication of the final results of this review, shall remain in effect until further notice.

Administrative Protective Order (APO)

This notice also serves as a final reminder to parties subject to an APO of their responsibility concerning the return or destruction of proprietary information disclosed under APO in accordance with 19 CFR 351.305(a)(3). Timely written notification of the return/destruction of APO materials or conversion to judicial protective order is hereby requested. Failure to comply with the regulations and terms of an APO is a sanctionable violation.

Notification to Interested Parties

These final results are issued and published in accordance with sections 751(a)(1) and 777(i)(1) of the Act, and 19 CFR 351.221(b)(5).

Dated: July 8, 2025.
Christopher Abbott,
Deputy Assistant Secretary for Policy and Negotiations, performing the non-exclusive functions and duties of the Assistant Secretary for Enforcement and Compliance.

Appendix

List of Topics Discussed in the Issues and Decision Memorandum

I. Summary

II. Background

III. Subsidies Valuation

IV. Analysis of Programs

V. Discussion of the Issues

Comment 1: Whether to Revise the Denominators for Subsidies Received by Assan's and Panda's Trading Companies

Comment 2: Whether to Include Certain By-Pass Sales in Kibar Dis' Sales Denominators

Comment 3: Whether to Make Certain Adjustments to Panda's Sales Denominators

Comment 4: Whether to Find the Exemptions on Banking and Insurance Transaction Tax (BITT) Program Countervailable

Comment 5: Whether to Find the Exemption of Exchange Tax for Foreign Exchange Transactions Program Countervailable

VI. Recommendation

[FR Doc. 2025-13085 Filed 7-11-25; 8:45 am]

BILLING CODE 3510-DS-P